DEPARTMENT OF DEFENSE

Department of the Air Force

Federal Advisory Committee for Air Force Academy Academic and Institutional Programs

AGENCY: Department of the Air Force, DoD.

ACTION: Notice of meeting.

SUMMARY: Pursuant to Public Law 92-463, notice is hereby given of forthcoming meeting of the Federal Advisory Committee for Air Force Academy Academic and Institutional Programs. The purpose of this meeting is to consider morale and discipline, the curriculum, instruction, physical equipment, fiscal affairs, academic methods, and other matters relating to the Academy. Certain sessions of these meetings will be closed to the public.

DATES: November 16-17, 2001.

ADDRESSES: USAF Academy, 2304 Cadet Drive, Colorado Springs, CO 80840-5002.

FOR FURTHER INFORMATION CONTACT: Major Steve Sandridge or Ms. Sue Christensen, Development and Alumni Programs Division, HQ USAFA/XPA, 2304 Cadet Drive, Suite 303, USAF Academy, Colorado Springs, CO 80840-5002, (719) 333-3668.

Janet A. Long,
Air Force Federal Register Liaison Officer.

[FR Doc. 01-26544 Filed 10-19-01; 8:45 am]

BILLING CODE 5001-05-P